ENVIRONMENTAL PROTECTION AGENCY

[FRL OP-OFA-115]

Environmental Impact Statements; Notice of Availability

Responsible Agency: Office of Federal Activities, General Information 202-564-5632 or https://www.epa.gov/nepa.

Weekly receipt of Environmental Impact Statements (EIS)

Filed March 4, 2024 10 a.m. EST Through March 11, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240040, Final, NMFS, VA, Adoption—Coastal Virginia Offshore Wind Commercial, Contact: Kelsey Potlock 301-427-8410.

The National Marine Fisheries Service (NMFS) has adopted the Bureau of Ocean Energy Management's Final EIS No. 20230128 filed 09/25/2023 with the Environmental Protection Agency. The NMFS was a cooperating agency on this project. Therefore, republication of the document is not necessary under Section 1506.3(b)(2) of the CEQ regulations.

EIS No. 20240041, Final, NMFS, NY, Adoption—Empire Offshore Wind, Contact: Jessica Taylor 301-427-8475. The National Marine Fisheries Service (NMFS) has adopted the Bureau of Ocean Energy Management's Final EIS No. 20230120 filed 09/11/2023 with the Environmental Protection Agency. The NMFS was a cooperating agency on this project. Therefore, republication of the document is not necessary under Section 1506.3(b)(2) of the CEQ regulations.

EIS No. 20240042, Final, NMFS, RI, Adoption—Revolution Wind Farm and Revolution Wind Export Cable Final Environmental Impact Statement, Contact: Carter Esch 301-427-8421. The National Marine Fisheries Service (NMFS) has adopted the Bureau of Ocean Energy Management's Final EIS No. 20230087 filed 07/17/2023 with the Environmental Protection Agency. The NMFS was a cooperating agency on this project. Therefore, republication of the document is not necessary under Section 1506.3(b)(2) of the CEQ regulations.

EIS No. 20240043, Draft, BLM, NV, Robertson Mine Project, Comment Period Ends: 04/29/2024, Contact: Gene Gilseth 775-635-4020.

EIS No. 20240044, Draft, BLM, WY, Draft Resource Management Plan Amendment and Environmental Impact Statement for Greater Sage-Grouse Rangewide Planning, Comment Period Ends: 06/13/2024, Contact: Pat Deibert 720-447-8107.

Dated: March 11, 2024.
Cindy S. Barger,
Director, NEPA Compliance Division, Office of Federal Activities.

[FR Doc. 2024-05555 Filed 3-14-24; 8:45 am]

BILLING CODE 6560-50-P